DEPARTMENT OF COMMERCE

International Trade Administration

[A-821-811]

Ammonium Nitrate From Russia: Correction to Notice of Opportunity To Request Administrative Review

AGENCY: Import Administration, International Trade Administration, Department of Commerce.

FOR FURTHER INFORMATION CONTACT: Brenda E. Waters, AD/CVD Operations, Customs Unit, Import Administration, International Trade Administration, U.S. Department of Commerce, 14th Street and Constitution Avenue NW., Washington, DC 20230; telephone: (202) 482-4735.

SUPPLEMENTARY INFORMATION: On April 2, 2012, the Department of Commerce (“Department”) published its opportunity to request administrative review of the antidumping duty orders and inadvertently omitted Ammonium Nitrate from Russia, POR 5/2/2011-3/31/2012. See Antidumping or Countervailing Duty Order, Finding, or Suspended Investigation; Opportunity To Request Administrative Review, 77 FR 63 (April 2, 2012). This notice serves as a correction to include the Ammonium Nitrate from Russia administrative review in the referenced notice.

Dated: April 4, 2012.
Gary Taverman,
Acting Deputy Assistant Secretary for Antidumping and Countervailing Duty Operations.

[FR Doc. 2012-8621 Filed 4-9-12; 8:45 am]

BILLING CODE 3510-DS-P